DEPARTMENT OF JUSTICE

Parole Commission

Sunshine Act Meetings

TIME AND DATE: 2:00 p.m., Wednesday, September 26, 2018.

PLACE: U.S. Parole Commission, 90 K Street NE, 3rd Floor, Washington, DC.

STATUS: Closed.

MATTERS TO BE CONSIDERED: Determination on TWO original jurisdiction cases.

CONTACT PERSON FOR MORE INFORMATION: Jacqueline Graham, Staff Assistant to the Chairman, U.S. Parole Commission, 90 K Street NE, 3rd Floor, Washington, DC 20530, (202) 346-7001.

Dated: September 17, 2018.
Patricia K. Cushwa,
Acting Chairperson, U.S. Parole Commission.

[FR Doc. 2018-20648 Filed 9-19-18; 11:15 am]

BILLING CODE 4410-31-P